FEDERAL DEPOSIT INSURANCE CORPORATION

Agency Information Collection Activities: Proposed Collection; Comment Request

AGENCY: Federal Deposit Insurance Corporation (FDIC).

ACTION: Notice and request for comment.

SUMMARY: The FDIC, as part of its continuing effort to reduce paperwork and respondent burden, invites the public and other Federal agencies to comment on a proposed information collection, as required by the Paperwork Reduction Act of 1995 (44 U.S.C. chapter 35). Currently, the FDIC is soliciting comments concerning an information collection titled “Deposit Broker Processing Guide.”

DATES: Comments must be submitted on or before February 19, 2002.

ADDRESSES: Interested parties are invited to submit written comments to Thomas E. Nixon, Senior Attorney (Regulatory Analysis), (202) 898-8766, Office of the Executive Secretary, Room 4060, Attention: Comments/OES, Federal Deposit Insurance Corporation, 550 17th Street NW., Washington, DC 20429. All comments should refer to “Deposit Broker Processing Guide.” Comments may be hand-delivered to the guard station at the rear of the 17th Street Building (located on F Street), on business days between 7:00 a.m. and 5:00 p.m. [FAX number (202) 898-3838; Internet address: comments@fdic.gov].

A copy of the comments may also be submitted to the OMB desk officer for the FDIC: Alexander Hunt, Office of Information and Regulatory Affairs, Office of Management and Budget, New Executive Office Building, Room 3208, Washington, DC 20503.

FOR FURTHER INFORMATION CONTACT: Thomas E. Nixon, at the address identified above.

SUPPLEMENTARY INFORMATION: Title: Deposit Broker Processing Guide.

Affected Public: Deposit Brokers with brokered deposits at failed insured depository institutions.

Estimated Number of Respondents (annual): 70.

Frequency of Response: Occasional.

Estimated Number of responses (annual): 70.

Estimated Time per Response: 2 hours.

Estimated Total Annual Burden: 140 hours.

General Description of Collection: In order to assist the FDIC to pay deposit insurance to persons who had deposited funds in a failed depository institution through a deposit broker, the FDIC requests deposit brokers who opened a deposit account in a failed institution to provide the FDIC with information about the parties for whom the broker acted as an agent and the amounts of their deposits.

Request for Comments

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology.

At the end of the comment period, the comments and recommendations received will be analyzed to determine the extent to which the collection should be modified prior to submission to OMB for review and approval. Comments submitted in response to this notice also will be summarized or included in the FDIC's request to OMB for approval of this collection. All comments will become a matter of public record.

Dated at Washington, DC, this 17th day of December, 2001.
Federal Deposit Insurance Corporation.
James D. LaPierre,
Deputy Executive Secretary.

[FR Doc. 01-31450 Filed 12-20-01; 8:45 am]

BILLING CODE 6714-01-P